DEPARTMENT OF LABOR

Office of the Secretary

Submission for OMB Review; Comment Request

August 23, 2000.

The Department of Labor (DOL) has submitted the following public information collection request (ICR) to the Office of Management and Budget (OMB) for review and approval in accordance with the Paperwork Reduction Act of 1995 (Pub. L. 104-13, 44 U.S.C. Chapter 35). A copy of the ICR, with applicable supporting documentation, may be obtained by calling the Department of Labor. To obtain documentation for BLS, ETA, PWBA, and OASAM contact Karin Kurz (202) 219-5096 ext. 159 or by E-mail to Kurz-Karin@dol.gov). To obtain documentation for ESA, MSHA, OSHA, and VETS contact Darrin King (202) 219-5096 ext. 151 or by E-Mail to King-Darrin@dol.gov).

Comments should be sent to Office of Information and Regulatory Affairs, Attn: OMB Desk Officer for BLS, DM,. ESA, ETA, MSHA, OSHA, PWBA, or VETS, Office of Management and Budget, Room 10235, Washington, DC 20503 (202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including estimate of the burden of the proposed collection of information, including the validity of the methodology and assumptions used;

• Enhance the quality, utility, and clarity of the information to be collected; and

• Enhance the burden of the collection of information on those who are to respond, including through the use of appropriate automated, electronic, mechanical, or other technological collection techniques or other forms of information technology, e.g., permitting electronic submission of responses.

Type of Review: Revision of a currently approved collection.

Agency: Bureau of Labor Statistics.

Title: Labor Market Information (LMI) Cooperative Agreement.

OMB Number: 1220-0079.

Affected Public: State, Local or Tribal Government.

Information collection | Respondents | Frequency | Total responses | Average time | Total hours
Work Statements | 55 | 1 | 55 | 1-2 hr | 55-110
BIF (LMI 1A & B) | 55 | 1 | 55 | 1-6 hr | 55-330
Quarterly Automated Financial Reports | 48 | 4 | 192 | 10-50 min | 32-160
Monthly Automated Financial Reports | 48 | *8 | 348 | 5-25 min | 32-160
BLS Cooperative Financial Report (LMI 2A) | 7 | 12 | 84 | 1-5 hr | 84-420
Quarterly Status Report (LMI 2B) | 1-30 | 4 | 4-120 | 1 hr | 4-12
Total | 1-55 |  | 774-890 |  | 264-1300
Avg. totals | 1055 |  | 832 |  | 781
* Reports are not received for end-of-quarter months, i.e., December, March, June, September.

Total annualized capital/startup costs: $0.

Total annual costs (operating/maintaining systems or purchasing services): $0.

Description: The LMI Cooperative Agreement includes all information needed by the State Employment Security Agencies to apply for funds to assist them to operate one or more of the five LMI programs operated by the Bureau of Labor Statistics, and, once awarded, report on the status of obligation and expenditure of funds, as well as close out the Cooperative Agreement.

Ira L. Mills,
Departmental Clearance Officer.

[FR Doc. 00-22331 Filed 8-30-00; 8:45 am]

BILLING CODE 4510-24-M